DEPARTMENT OF AGRICULTURE

Food and Nutrition Service

Agency Information Collection Activities: Proposed Collection; Comment Request—Supplemental Nutrition Assistance Program: State Issuance and Participation Estimates—Forms FNS-388 and FNS-388A

AGENCY: Food and Nutrition Service, USDA.

ACTION: Notice.

SUMMARY: In accordance with the Paperwork Reduction Act of 1995, the Food and Nutrition Service (FNS) is publishing for public comment a summary of a proposed information collection. The proposed collection is a revision of a currently approved collection for the Supplemental Nutrition Assistance Program (SNAP) for the form FNS-388, State Issuance and Participation Estimates, and FNS-388A, Project Area Data Format.

DATES: Written comments must be received on or before April 15, 2013.

ADDRESSES: Comments are invited on: (a) Whether the proposed collection of information is necessary for the proper performance of the functions of the agency, including whether the information shall have practical utility; (b) the accuracy of the agency's estimate of the burden of the proposed collection of information including the validity of the methodology and assumptions used; (c) ways to enhance the quality, utility and clarity of the information to be collected; and (d) ways to minimize the burden of the collection of information on those who are to respond, including use of appropriate automated, electronic, mechanical, or other technological collection techniques or other forms of information technology.

Comments may be sent to Jane Duffield, Chief, State Administration Branch, Supplemental Nutrition Assistance Program, Food and Nutrition Service, USDA, 3101 Park Center Drive, Room 818, Alexandria, VA 22302. Comments may also be submitted via email to SNAPSAB@fns.usda.gov. Comments will also be accepted through the federal eRulemaking Portal. Go to http://www.regulations.gov, and follow the online instructions for submitting comments electronically.

All responses to this notice will be summarized and included in the request for Office of Management and Budget approval. All comments will become a matter of public record.

FOR FURTHER INFORMATION CONTACT: Requests for additional information or copies of this information collection should be directed to Kelly Stewart at 703-305-2425.

SUPPLEMENTARY INFORMATION:

Title: State Issuance and Participation Estimates.

Form Number: FNS-388 and FNS-388A.

OMB Number: 0584-0081.

Expiration Date: 5/31/2013.

Type of Request: Revision of a currently approved collection.

Abstract: Section 18(b) of the Food and Nutrition Act, (the Act) 7 U.S.C. 2027(b), limits the value of allotments paid to SNAP households to an amount not in excess of the appropriation for the fiscal year. If allotments in any fiscal year would exceed the appropriation, the Secretary of Agriculture is required to direct State agencies to reduce the value of SNAP allotments to the extent necessary to stay within appropriated funding limits. Timely State monthly issuance estimates are necessary for FNS to ensure that it remains within the appropriation. The estimates will also have a direct effect upon the manner in which allotments would be reduced if necessary. While benefit reductions have never been ordered in the past under Section 18(b) nor are they anticipated based on current data, the Department must continue to monitor actual program costs against the appropriation.

Section 11(e)(12) of the Food and Nutrition Act, 7 U.S.C. 2020(e)(12), requires that the State Plan of Operations provide for the submission of reports required by the Secretary of Agriculture. State agencies are required to report on a monthly basis on the FNS-388, State Issuance and Participation Estimates, estimated or actual issuance and participation data for the current month and previous month, and actual participation data for the second preceding month. The FNS-388 report provides the necessary data for an early warning system to enable the Department to monitor actual and estimated costs for all benefit types against the appropriation.

State agencies in general only submit one Statewide FNS-388 per month, which covers benefits from their electronic benefit transfer (EBT) system. The exception is that State agencies which choose to operate an approved alternative issuance demonstration project such as a cash-out system submit a separate report for each additional type of issuance system.

In addition, State agencies are required to submit a project area breakdown on the FNS-388 of issuance and participation data twice a year. The project area breakdown attached to the FNS-388 twice a year is known as the FNS-388A. This data is useful in identifying project areas that operate fraud detection units in accordance with the Act.

As of December, 2012, 100 percent of respondents submitted the FNS-388 and FNS-388A data electronically.

Affected Public: State agencies that administer SNAP.

Estimated Number of Respondents: 53.

Estimated Number of Responses per Respondent: 27.17.

Estimated Hours per Response: 3.581.

Estimated Total Annual Responses: 1440.

Estimated Total Annual Burden on Respondents: The annual reporting and recordkeeping burden for OMB No. 0584-0081, is estimated to be 5,157 hours. For the FNS-388, the frequency of response has decreased slightly from an estimated 11.509 times per year to 11.32. This results in a burden reduction of 86 hours annually. See the table below for estimated total annual burden for each type of respondent.

Affected public | Forms | Number of respondents | Frequency of response | Total annual responses | Time per response (hrs) | Annual burden hours
State Agencies | FNS-388 | 53 | 11.32 | 600 | 5.6 | 3360
| FNS-388A | 53 | 2.26 | 120 | 14.83 | 1779.6
Reporting Burden |  | 53 |  | 720 |  | 5139.6

Affected public | Forms | Number of recordkeepers | Frequency of response | Total annual records | Time per response (hrs) | Annual record-keeping hours
State Agencies | FNS-388 | 53 | 11.32 | 600 | .024 | 14.4
| FNS-388A | 53 | 2.26 | 120 | .024 | 2.88
Recordkeeping Burden |  | 53 |  | 720 |  | 17.28
Grand Total |  | 53 | 27.170 | 1440 | 3.581 | 5156.88

Dated: January 31, 2013.
Jeffrey J. Tribiano,
Acting Administrator, Food Nutrition Service.

[FR Doc. 2013-03340 Filed 2-13-13; 8:45 am]

BILLING CODE 3410-30-P